DEPARTMENT OF ENERGY

Federal Energy Regulatory Commission

[Project No. 13213-003]

Lock 14 Hydro Partners, LLC; Kentucky Heidelberg Hydroelectric Project; Notice of Revised Restricted Service List

Rule 2010 of the Federal Energy Regulatory Commission's (Commission) Rules of Practice and Procedure, 18 CFR 385.2010, provides that, to eliminate unnecessary expense or improve administrative efficiency, the Secretary may establish a restricted service list for a particular phase or issue in a proceeding. The restricted service list should contain the names of persons on the service list who, in the judgment of the decisional authority establishing the list, are active participants with respect to the phase or issue in the proceeding for which the list is established.

The Commission staff is consulting with the Kentucky State Historic Preservation Officer and the Advisory Council on Historic Preservation (Advisory Council) pursuant to the Advisory Council's regulations, 36 CFR part 800, implementing section 106 of the National Historic Preservation Act, as amended, (16 U.S.C. 470f), to prepare a Programmatic Agreement for managing properties included in, or eligible for inclusion in, the National Register of Historic Places at the proposed Heidelberg Hydroelectric Project.

On November 21, 2013, Commission staff established a restricted service list for the Heidelberg Hydroelectric Project. Since that time, changes have occurred and therefore, the restricted service list is revised as follows:

Replace “Jill Howe, Kentucky Heritage Council” with “Kary Stackelbeck, or Representative, Kentucky Heritage Council.”

Dated: February 2, 2015.
Kimberly D. Bose,
Secretary.

[FR Doc. 2015-02434 Filed 2-6-15; 8:45 am]

BILLING CODE 6717-01-P